ENVIRONMENTAL PROTECTION AGENCY

40 CFR Parts 50, 51, 52, 53, and 58

[EPA-HQ-OAR-2008-0699; FRL-9921-26-OAR]

RIN 2060-AP38

National Ambient Air Quality Standards for Ozone

AGENCY: Environmental Protection Agency.

ACTION: Announcement of public hearings.

SUMMARY: The Environmental Protection Agency (EPA) is announcing three public hearings for the proposed rule titled, “National Ambient Air Quality Standards for Ozone,” that was published in the Federal Register on December 17, 2014. The hearings will be held in Washington, DC, Arlington, Texas, and Sacramento, California.

Based on its review of the air quality criteria for ozone (O3) and related photochemical oxidants and national ambient air quality standards (NAAQS) for O3, the EPA proposes to make revisions to the primary and secondary NAAQS for O3 to provide requisite protection of public health and welfare, respectively. The EPA is proposing to revise the primary standard to a level within the range of 0.065 to 0.070 parts per million (ppm), and to revise the secondary standard to within the range of 0.065 to 0.070 ppm, which air quality analyses indicate would provide air quality, in terms of 3-year average W126 index values, at or below a range of 13-17 ppm-hours. The EPA proposes to make corresponding revisions in data handling conventions for O3 and conforming changes to the Air Quality Index; to revise regulations for the Prevention of Significant Deterioration program to add a transition provision for certain applications; and to propose schedules and convey information related to implementing any revised standards. The EPA is proposing changes to the O3 monitoring seasons, the Federal Reference Method (FRM) for monitoring O3 in the ambient air, Federal Equivalent Method procedures for testing, and the Photochemical Assessment Monitoring Stations network.

Along with proposing exceptional event schedules related to implementing any revised O3 standards, the EPA is proposing to apply this same schedule approach to other future revised NAAQS and to remove obsolete regulatory language for expired exceptional event deadlines. The EPA is proposing to make minor changes to the procedures and time periods for evaluating potential FRMs and equivalent methods (including making the requirements for nitrogen dioxide consistent with the requirements for O3) and to remove an obsolete requirement for the annual submission of documentation by manufacturers of certain particulate matter monitors.

DATES: The public hearings will be held on January 29, 2015, in Washington, DC and Arlington, Texas, and on February 2, 2015, in Sacramento, California. Please refer to SUPPLEMENTARY INFORMATION for additional information on the public hearings.

ADDRESSES: The hearings will be held at the following locations:

1. Washington: EPA, WJC East Building, Room 1153, 1201 Constitution Avenue NW., Washington, DC. Identification is required. If your driver's license is issued by Alaska, American Samoa, Arizona, Kentucky, Louisiana, Maine, Massachusetts, Minnesota, Montana, New York, Oklahoma, or the state of Washington, you must present an additional form of identification to enter (see SUPPLEMENTARY INFORMATION for additional information on this location).

2. Sacramento: California Air Resources Board, Byron-Sher Auditorium, 1001 “I” Street, Sacramento, CA 95814. Commenters will be required to sign in and show valid picture identification to security staff upon entering.

3. Arlington: Arlington City Hall, Arlington Municipal Building, 101 W. Abram Street, Arlington, Texas 76010.

Written comments on the proposed rule may also be submitted to the EPA electronically, by mail, by facsimile, or through hand delivery/courier. Please refer to the proposed rule for the addresses and detailed instructions.

A complete set of documents related to the proposed rule is available for public inspection at the EPA Docket Center, located at Docket ID No. EPA-HQ-OAR-2008-0699, EPA, WJC West Building, Room 3334, 1301 Constitution Avenue NW., Washington, DC. The Public Reading Room is open from 8:30 a.m. to 4:30 p.m., Monday through Friday, excluding legal holidays. A reasonable fee may be charged for copying. Documents are also available through the electronic docket system at www.regulations.gov.

The EPA Web site for the rulemaking, which includes the proposal and information about the public hearings, can be found at http://www.epa.gov/glo/actions.html.

FOR FURTHER INFORMATION CONTACT: If you would like to speak at the public hearings or have questions concerning the public hearings, please contact Ms. Eloise Shepherd, Office of Air Quality Planning and Standards, Health and Environmental Impacts Division, Environmental Protection Agency, Research Triangle Park, NC 27711; telephone: (919) 541-5507; fax number: (919) 541-0804; email address: shepherd.eloise@epa.gov.

Questions concerning the proposed rule should be addressed to Ms. Susan Stone, Office of Air Quality Planning and Standards, Health and Environmental Impacts Division, Mail Code: C504-06, Research Triangle Park, NC 27711; telephone: (919) 541-1146; email address: stone.susan@epa.gov.

SUPPLEMENTARY INFORMATION: The proposed rule for which the EPA is holding the public hearings was published in the Federal Register on December 17, 2014 (79 FR 75234), and is available at www.epa.gov/glo/actions.html. The public hearings will provide interested parties the opportunity to present data, views, or arguments concerning the proposed rule. The EPA may ask clarifying questions during the oral presentations, but will not respond to the presentations at that time. Written statements and supporting information submitted during the comment period will be considered with the same weight as any oral comments and supporting information presented at the public hearings. Written comments must be postmarked by the last day of the comment period, March 17, 2015, as specified in the proposed rule.

The three public hearings will be held in Washington, DC; Arlington, Texas; and Sacramento, California. The public hearings will begin each day at 9:00 a.m. (local time) and continue until 7:30 p.m. (local time). The EPA will make every effort to accommodate all speakers that arrive and register before 7:30 p.m. The EPA is scheduling lunch breaks from 12:30 p.m. until 2:00 p.m. Please note that the Washington, D.C. hearing is being held at a U.S. government facility. Individuals planning to attend the Washington, D.C. hearing should be prepared to show valid picture identification to the security staff in order to gain access to the building. The REAL ID Act, passed by Congress in 2005, established new requirements for entering federal facilities. These requirements took effect July 21, 2014. If your driver's license is issued by Alaska, American Samoa, Arizona, Kentucky, Louisiana, Maine, Massachusetts, Minnesota, Montana, New York, Oklahoma, or the state of Washington, you must present an additional form of identification to enter the federal building in Washington, DC where the public hearing will be held. Acceptable alternative forms of identification include federal employee badges, passports, enhanced driver's licenses, and military identification cards. In addition, you will need to obtain a property pass for any personal belongings you bring with you. Upon leaving the building, you will be required to return this property pass to the security desk. No large signs will be allowed in the building, cameras may only be used outside of the building and demonstrations will not be allowed on federal property for security reasons. Individuals planning to attend the public hearing in Sacramento, California will also be required to sign in and show valid picture identification to security staff in order to gain access to the building.

If you would like to present oral testimony at the hearings, please notify Ms. Eloise Shepherd, U.S. EPA, Office of Air Quality Planning and Standards, Mail Code: C504-02, 109 T.W. Alexander Drive, Research Triangle Park, NC 27711; telephone: (919) 541-5507; fax: (919) 541-0804; email address: shepherd.eloise@epa.gov (preferred method for registering). Ms. Shepherd will arrange a general time slot for you to speak. The EPA will make every effort to follow the schedule as closely as possible on the day of the hearings.

Oral testimony will be limited to 5 minutes for each commenter to address the proposed revisions. The EPA will not provide audiovisual equipment for presentations unless we receive special requests in advance. Commenters should notify Ms. Shepherd if they will need specific equipment. Commenters should notify Ms. Shepherd if they need specific translation services for non-English speaking commenters. The EPA encourages commenters to provide written versions of their oral testimonies either electronically on computer disk or CD-ROM or in paper copy.

The hearing schedules, including lists of speakers, will be posted at www.epa.gov/glo/actions.html prior to the hearings. Verbatim transcripts of the hearings and written statements will be included in the rulemaking docket.

How can I get copies of this document and other related information?

The EPA has established the official public docket for the proposed rule under Docket ID No. EPA-HQ-OAR-2008-0699. The EPA has also developed a Web site for the proposed rule at www.epa.gov/glo/actions.html. Please refer to the proposed rule (79 FR 75234, December 17, 2014) for detailed information on accessing information related to the proposed rule.

Dated: December 23, 2014.
Mary E Henigin,
Acting Director, Office of Air Quality Planning and Standards.

[FR Doc. 2014-30688 Filed 12-30-14; 8:45 am]

BILLING CODE 6560-50-P